DEPARTMENT OF HEALTH AND HUMAN SERVICES

Administration for Children and Families

Submission for OMB Review; Comment Request

Title: Strengthening Communities Fund (SCF) Performance Management and Evaluation Support.

OMB No.: New Collection.

Description: This proposed information collection activity is to obtain information from participants in two Strengthening Communities Fund (SCF) programs: The Nonprofit Capacity Building Program and the State, Local, and Tribal Government Capacity Building Program. Both programs are designed to contribute to the economic recovery as authorized in the American Recovery and Reinvestment Act of 2009 (ARRA). The SCF evaluation is an important opportunity to examine outcomes achieved by the Strengthening Communities Fund and progress toward the objective of improving the capacity of organizations served by program grantees to address broad economic recovery issues in their communities.

The evaluation will be designed to assess progress and measure increased organizational capacity of each participating organization. The purpose of this request is to receive approval of the data collection instruments that will be used in this study.

A significant amount of information is already being collected through program-specific OMB-approved PPR forms or is available through secondary sources. Proposed surveys and phone interviews are very brief to reduce the burden on respondents.

Respondents:

Annual Burden Estimates
Instrument | Number of respondents | Number of responses per respondent | Average burden hours per response | Total burden hours
On-line Survey of SCF Grantees | 84 | 1 | 0.25 | 21
Telephone Interview of SCF Grantees | 84 | 1 | 1.5 | 126
On-line Survey of Faith-based and Community Organizations (FBCOs) | 1,000 | 1 | 0.5 | 500

Estimated Total Annual Burden Hours: 647.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, E-mail: OIRA_SUBMISSION@OMB.EOP.GOV, Attn: Desk Officer for the Administration for Children and Families.

Robert Sargis,
Reports Clearance Officer.

[FR Doc. 2011-3745 Filed 2-17-11; 8:45 am]

BILLING CODE 4184-01-P